DEPARTMENT OF HOMELAND SECURITY

Coast Guard

[Docket No. USCG-2008-1088]

Notice of Arrival on the Outer Continental Shelf

AGENCY: Coast Guard, DHS.

ACTION: Notice of request for comments.

SUMMARY: The United States Coast Guard is soliciting public comment on proposed changes to the computer application for electronic Notice of Arrival (NOA) on the Outer Continental Shelf (OCS). The Coast Guard NOA-OCS program currently requires NOA information for those vessels, facilities, and Mobile Offshore Drilling Units (MODUs) operating on the OCS. This information is currently being collected via the National Vessel Movement Center (NVMC) electronic Notice of Arrival and Departure (e-NOAD) process. The Coast Guard is continually seeking to improve the e-NOAD process and form to make it as user friendly as possible. Public comment is necessary in order to assist the Coast Guard with assessing which requirements may be addressed in future guidance or regulations to improve the e-NOAD application.

DATES: Comments and related material must either be submitted to our online docket via http://www.regulations.gov November 19, 2012 or reach the Docket Management Facility by that date.

ADDRESSES: You may submit comments identified by docket number USCG-2008-1088 using any one of the following methods:

(1) Federal eRulemaking Portal: http://www.regulations.gov.

(2) Fax: 202-372-1925.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.”

FOR FURTHER INFORMATION CONTACT: If you have questions on this notice, call or email LCDR Michael Lendvay, Commercial Vessel Compliance, Foreign and Offshore Vessel Compliance Division (CG-CVC-2), U.S. Coast Guard, 2100 2nd St. SW., Stop 7581, Washington DC 20593-7581, telephone 202-372-1218, email Michael.D.Lendvay@uscg.mil. If you have questions on viewing or submitting material to the docket, call Renee V. Wright, Program Manager, Docket Operations, telephone 202-366-9826.

SUPPLEMENTARY INFORMATION:

Public Participation and Request for Comments

We encourage you to submit comments and related material. All comments received will be posted, without change, to http://www.regulations.gov and will include any personal information you have provided.

Submitting comments: If you submit a comment, please include the docket number for this notice (USCG-2008-1088) and provide a reason for each comment or recommendation. You may submit your comments and material online, or by fax, mail or hand delivery, but please use only one of these means. We recommend that you include your name and a mailing address, an email address, or a telephone number in the body of your document so that we can contact you if we have questions regarding your submission.

To submit your comment online, go to http://www.regulations.gov and type “USCG-2008-1088” in the “Search” box. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and related material:

To view the comments go to http://www.regulations.gov. In the “Search” box insert “USCG-2008-1088.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act:

Anyone can search the electronic form of comments received into any of our dockets by the name of the individual submitting the comment (or signing the comment, if submitted on behalf of an association, business, labor union, etc.). You may review a Privacy Act system of records notice regarding our public dockets in the January 17, 2008, issue of the Federal Register (73 FR 3316).

Basis and Purpose

On January 13 2011, the Coast Guard, published the Notice of Arrival (NOA) on the Outer Continental Shelf (OCS) final rule [Docket No. USCG-2008-1088] (76 FR 2254), which required NOA information for those vessels, facilities and Mobile Drilling Units (MODUs) operating on the OCS. This rule was designed to enhance maritime domain awareness (MDA) over outer continental shelf activities. The final rule enhanced maritime security and safety by requiring U.S. and foreign vessels, floating facilities, and MODUs arriving on and/or engaging in outer continental shelf activities to report their arrival times and locations and information regarding the vessels, voyage, cargo, and crew.

According to 43 U.S.C. 1331, the OCS includes all submerged lands lying seaward and outside of the area of lands beneath navigable waters and of which the subsoil and seabed are subject to the jurisdiction and control of the U.S. OCS activity is defined in U.S. regulations as any activity that occurs on the OCS and is associated with the exploration for, or development or production of, minerals, to include oil.

The final rule implements provisions of the Security and Accountability for Every (SAFE) Port Act of 2006, Public Law 109-347, and increases overall maritime domain awareness by requiring owners or operators of U. S. and foreign-flag vessels, floating facilities, and MODUs, to submit notice of arrival information to the Coast Guard's National Vessel Movement Center prior to engaging in OCS activities. Such information is critical to maritime safety and security and will enable the Coast Guard to more effectively prevent or respond to a safety or security concern on the OCS.

The final rule and related materials may be viewed online at http://www.regulations.gov, docket number: USCG-2008-1088.

Upon publication of the final rule, the U.S. domestic offshore industry indicated that compliance with the final rule was difficult because of the design of the e-NOAD system as it relates to vessels operating the OCS. Through our partnership with the Offshore Marine Service Association (OMSA), we established a working group to specifically address the design of an OCS-specific NOA reporting form.

Until design changes could be made to the OCS-specific NOA reporting form, we requested voluntary compliance with the revised e-NOAD-OCS application available for comment in this Notice so that we could ascertain the practicality of the revised application and the information requested. The e-NOAD-OCS is intended as a means of compliance with the final rule; however, other methods of reporting (such as by fax or email) will also be available as specified on the NVMC Web site [http://www.nvmc.uscg.gov]. See also 33 CFR 146.215(b) Methods of submission. This voluntary compliance period allowed us to gather information as to what was needed to improve the process, not just on the domestic vessels, but also on the foreign-flag vessels operating on the OCS. In addition to reducing the reporting burden, we sought input as to how to make the e-NOA-OCS application more user-friendly. As a result of these efforts, we are updating the e-NOAD-OCS application and soliciting additional input and comments from industry with regards to the revised data fields that are intended to eliminate duplicate reporting methods while providing us with the necessary information to maintain MDA. Therefore, the Coast Guard is inviting the public to comment on proposed changes to the e-NOAD-OCS electronic application described below. The e-NOAD-OCS application can be found at http://www.nvmc.uscg.gov/NVMC/Default.aspx. The comment period will begin September 18, 2012 and will end November 19, 2012.

e-NOAD OCS Process

To submit an e-NOAD OCS application, go to the U.S. Coast Guard National Vessel Movement Center Web page [http://www.nvmc.uscg.gov/NVMC/Default.aspx]. Once there, locate the “Submit NOA Online” button or login with your existing account using the login section directly below the “Submit NOA Online” button. If you do not have an account, there is a sign-up link located directly beneath the login section.

Once logged in, you will be connected to the e-NOAD application and have the option to view, update, or copy an existing notice. Users will select the “Add Notice” button. At this point, you will have the option to click on the “Import Notice” button to upload a current workbook 6.0 XLS file or compile XML file. Once you determine the method of submission, a sub-menu will appear that provides three options: (1) Arrival; (2) Import; and (3) OCS.

Select “OCS.” An “OCS wizard” will appear. At this point, you will be prompted to submit the following information:

• Vessel/MODU details;

• Reporting party details;

• Free-from text block for additional information (new addition);

• Add arrivals, up to 5 (new addition);

• Crew, check boxes for what leg of the voyage they apply to;

• Passengers, check boxes for what leg of the voyage they apply to;

• Cargo, check boxes for what leg of the voyage they apply to;

• Previous ports details;

• Security details;

You may then submit the NOAD by clicking “Ok.” After submitting the NOAD, you will have the following two options:

• Go back to the notice of arrival/departure list screen

• Submit additional notices.

Please note that the system is capable of saving notices so that it is no longer necessary for the user to retype certain information that is associated with a particular vessel. Additionally, users will have the option to import crew and passenger lists to reduce the amount of time spent typing in names individually.

The Coast Guard is asking for public comment on the following proposed changes to the e-NOAD-OCS application.

(1) The addition of one data field to consist of a free-form block that will allow additional voluntary information (e.g., route information, day planning) to be collected;

(2) The ability to submit up to five consecutive ports or places on the OCS; and

(3) Ways to enhance the quality, utility, and clarity of information submitted through the e-NOAD-OCS application.

Authority: This notice is issued under authority of 5 U.S.C. 552(a); 33 CFR part 146.

Dated: September 4, 2012.
Paul F. Thomas,
Director of Inspections and Compliance (CG-5PC).

[FR Doc. 2012-22923 Filed 9-17-12; 8:45 am]

BILLING CODE 9110-04-P